DEPARTMENT OF THE INTERIOR

Bureau of Land Management

[LLWO31000.L13100000.PB0000.18X; OMB Control Number 1004-0185]

Agency Information Collection Activities; Onshore Oil and Gas Leasing and Drainage Protection

AGENCY: Bureau of Land Management, Interior.

ACTION: Notice of information collection; request for comment.

SUMMARY: In accordance with the Paperwork Reduction Act of 1995, we, the Bureau of Land Management (BLM), are proposing to renew an information collection.

DATES: Interested persons are invited to submit comments on or before June 25, 2018.

ADDRESSES: Send your comments on this information collection request (ICR) by mail to the U.S. Department of the Interior, Bureau of Land Management, 1849 C Street NW, Room 2134LM, Washington, DC 20240, Attention: Jean Sonneman; or by email to jesonnem@blm.gov. Please reference OMB Control Number 1004-0185 in the subject line of your comments.

FOR FURTHER INFORMATION CONTACT: To request additional information about this ICR, contact Jennifer Spencer by email at j35spenc@blm.gov, or by telephone at 202-912-7146.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The BLM collects information under control number 1004-0185 in order to monitor and enforce compliance with drainage protection and other requirements pertaining to Federal and Indian oil and gas leasing and operations (except on the Osage Reservation). Collecting the information is necessary for compliance with several statutes, including the Mineral Leasing Act (30 U.S.C. 181 et seq.) and the Federal Oil and Gas Royalty Management Act (30 U.S.C. 1701-1758).

Title of Collection: Onshore Oil and Gas Leasing and Drainage Protection.

OMB Control Number: 1004-0185.

Form Number: None.

Type of Review: Extension of a currently approved collection.

Respondents/Affected Public: Onshore Federal and Indian oil and gas lessees (except on the Osage Reservation), operators, and operating rights owners.

Total Estimated Number of Annual Respondents: 19,711.

Total Estimated Number of Annual Responses: 19,711.

Estimated Completion Time per Response: Varies from 1 to 24 hours, depending on activity.

Total Estimated Number of Annual Burden Hours: 42,935.

Respondent's Obligation: Required to Obtain or Retain a Benefit.

Frequency of Collection: On occasion, except for the activity titled “Option statement,” which is required twice a year.

Total Estimated Annual Nonhour Burden Cost: $2,976,683.55.

The following table details the individual components and respective hour burdens of this information collection request:

Type of response | Number of responses | Hours per response | Total hours (Column B × Column C)
A. | B. | C. | D.
Notice of option holdings, 43 CFR 3100.3-1(b) | 1 | 1 | 1
Option statement, 43 CFR 3100.3-3 | 1 | 1 | 1
Proof of acreage reduction, 43 CFR 3101.2-4(a) | 1 | 1 | 1
Excess acreage petition, 43 CFR 3101.2-4(a) | 1 | 1 | 1
Ad hoc acreage statement, 43 CFR 3101.2-6 | 1 | 1 | 1
Joinder evidence statement, 43 CFR 3101.3-1 | 50 | 1 | 50
Waiver, suspension, or reduction of rental or royalty, 43 CFR 3103.4-1 | 453 | 2 | 906
Communitization or drilling agreements, 43 CFR 3105.2 | 178 | 2 | 356
Operating, drilling, or development contracts, 43 CFR 3105.3 | 1 | 1 | 1
Application to combine interests for joint refining or transportation of oil, 43 CFR 3105.4 | 1 | 1 | 1
Subsurface storage application, 43 CFR 3105.5 | 1 | 1 | 1
Consolidation of leases, 43 CFR 3105.6 | 12 | 1 | 12
Heirs and devisees, 43 CFR 3106.8-1 | 86 | 1 | 86
Change of name, 43 CFR 3106.8-2 | 10,668 | 1 | 10,668
Corporate merger notice, 43 CFR 3106.8-3 | 4,184 | 1 | 4,184
Lease renewal application, 43 CFR 3107.8 | 1 | 1 | 1
Relinquishment, 43 CFR 3108.1 | 176 | 1 | 176
Class I reinstatement petition, 43 CFR 3108.2-2 | 11 | 3 | 33
Class II reinstatement petition, 43 CFR 3108.2-3 | 66 | 3 | 198
Class III reinstatement petition, 43 CFR 3108.2-4 | 1 | 1 | 1
Application for lease under right-of-way, 43 CFR 3109.1 | 38 | 8 | 304
Lands available for competitive leasing, 43 CFR 3120.1-1(e) | 1,380 | 8 | 11,040
Protests and appeals, 43 CFR 3120.1-3 | 1,289 | 8 | 10,312
Preliminary drainage protection report, 43 CFR 3162.2-9 | 1,000 | 2 | 2,000
Detailed drainage protection report, 43 CFR 3162.2-9 | 100 | 24 | 2,400
Additional drainage protection report, 43 CFR 3162.2-9 | 10 | 20 | 200
Totals | 19,711 |  | 42,935

An agency may not conduct or sponsor and a person is not required to respond to a collection of information unless it displays a currently valid OMB control number.

The authority for this action is the Paperwork Reduction Act of 1995 (44 U.S.C. 3501 et seq).

Jean Sonneman,
Bureau of Land Management, Information Collection Clearance Officer.

[FR Doc. 2018-08533 Filed 4-23-18; 8:45 am]

BILLING CODE 4310-84-P